DEPARTMENT OF COMMERCE

Foreign-Trade Zones Board

[Order No. 2071]

Restricted Approval for Production Authority; Foreign-Trade Zone 186; Flemish Master Weavers (Machine-Woven Area Rugs); Waterville, Maine

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the City of Waterville, Maine, grantee of Foreign-Trade Zone 186, has requested production authority on behalf of Flemish Master Weavers (FMW), within Subzone 186A in Sanford, Maine (B-28-2017, docketed April 18, 2017);

Whereas, notice inviting public comment has been given in the Federal Register (82 FR 26434, June 7, 2017; 83 FR 1608, January 12, 2018) and the application has been processed pursuant to the FTZ Act and the Board's regulations; and,

Whereas, the Board adopts the findings and recommendations of the examiner's report, and finds that the requirements of the FTZ Act and the Board's regulations would be satisfied, and that the proposal would be in the public interest, if subject to the restrictions listed below;

Now, therefore, the Board hereby orders:

The application for production authority under zone procedures within Subzone 186A on behalf of FMW, as described in the application and Federal Register notice, is approved, subject to the FTZ Act and the Board's regulations, including Section 400.13, and further subject to the following restrictions:

1. The annual quantitative volume of continuous filament polypropylene yarn that FMW may admit into Subzone 186A under nonprivileged foreign status (19 CFR 146.42) is limited to 3 million kilograms; and,

2. Approval is limited to an initial period of five years, subject to extension upon review.

Dated: October 25, 2018.
Gary Taverman,
Deputy Assistant Secretary for Antidumping and Countervailing Duty Operations, performing the non-exclusive functions and duties of the Assistant Secretary for Enforcement and Compliance Alternate Chairman, Foreign-Trade Zones Board.

[FR Doc. 2018-23803 Filed 10-30-18; 8:45 am]

BILLING CODE 3510-DS-P